DEPARTMENT OF ENERGY

Federal Energy Regulatory Commission

[Project No. 7758-004]

Holyoke No. 4 Project; Notice of Application Ready for Environmental Analysis and Soliciting Comments, Recommendations, Terms and Conditions, and Prescriptions

September 27, 2005.

Take notice that the following hydroelectric application has been filed with the Commission and is available for public inspection.

a. Type of Application: Subsequent License.

b. Project No.: P-7758-004.

c. Date Filed: February 25, 2005.

d. Applicant: Holyoke Gas & Electric Department (HG&E).

e. Name of Project: Holyoke No. 4 Project.

f. Location: Located on the Connecticut River in the City of Holyoke, Hamden County, Massachusetts. This project does not occupy federal lands.

g. Filed Pursuant to: Federal Power Act 16 U.S.C. 791(a)-825(r).

h. Applicant Contact: Nancy J. Skancke, Law Offices of GKRSE, 1500 K St., NW., Suite 330, Washington, DC 20005, (202) 408-5400.

i. FERC Contact: Jack Hannula, (202) 502-8917, john.hannula@ferc.gov.

j. Deadline for filing comments, recommendations, terms and conditions, and prescriptions: 60 days from the issuance date of this notice; reply comments are due 105 days from issuance date of this notice.

All documents (original and eight copies) should be filed with: Magalie R. Salas, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments and recommendations may be filed electronically via the Internet in lieu of paper. The Commission strongly encourages electronic filings. See CFR 385.2001(a)(1)(iii) and the instructions on the Commission's Web site (http://www.ferc.gov) under the “eFiling” link.

k. This application has been accepted, and is ready for environmental analysis at this time.

l. The existing project is located on the Holyoke Canal System on the Connecticut River in Hampden County, Massachusetts.¹ The Holyoke Canal System consists of three levels, and the project facilities are located between the first and second canal level. The project is one of nine FERC-licensed projects on the Holyoke Canal System. The Holyoke No. 4 Hydro Project has an installed generating capacity of 750 kilowatts (kW), and generates about 3,148,000 kilowatt-hours (kWh) of energy annually. Flows into the Canal System are regulated by HG&E through operation of the Holyoke Project No. 2004 according to the Comprehensive Canal Operations Plan (CCOP) and the Comprehensive Operations and Flow Plan (COFP).² The project does not occupy any federal lands.

¹ The Holyoke Canal System is licensed under the Holyoke Project No. 2004. 88 FERC ¶ 61,186 (1999).

² The CCOP and COEP are part of a Settlement Agreement (filed with the Commission on March 12, 2004) as part of the licensing of the Holyoke Project No. 2004. These plans address canal flows, water quality, fish, and other habitat species.

m. A copy of the application is available for review at the Commission in the Public Reference Room or may be viewed on the Commission's Web site at http://www.ferc.gov using the “eLibrary link”. Enter the docket number excluding the last three digits in the docket number field to access the document. For assistance, contact FERC Online Support at FERCOnlineSupport@ferc.gov or toll-free at 1-866-208-3676, or for TTY, (202) 502-8659. A copy is also available for inspection and reproduction at the address in item h. above.

All filings must: (1) Bear in all capital letters the title “COMMENTS”, “REPLY COMMENTS”, “RECOMMENDATIONS”, “TERMS AND CONDITIONS”, or “PRESCIPTIONS”; (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/esubscribenow.htm to be notified via e-mail of new filings and issuances related to this or other pending projects. For assistance, contact FERC Online Support.

n. Procedures schedule: The Commission staff proposes to issue an Environmental Assessment (EA) rather than issuing a draft and final EA. Staff intends to allow at least 30 days for entities to comment on the EA, and will take into consideration all comments received on the EA before final action is taken on the license application. The application will be processed according to the following schedule, but revisions to the schedule may be made as appropriate:

Issue Notice of availability of EA: February 2006.

Ready for Commission decision on the application: March 2006.

Magalie R. Salas,
Secretary.

[FR Doc. E5-5403 Filed 9-30-05; 8:45 am]

BILLING CODE 6717-01-P